DEPARTMENT OF THE INTERIOR

Bureau of Safety and Environmental Enforcement

[Docket ID BSEE-2013-0005; OMB Control Number 1014-0017: 134E1700D2 EEEE500000 ET1SF0000.DAQ000]

Information Collection Activities: Safety and Environmental Management Systems (SEMS); Proposed Collection; Comment Request

Correction

In notice document 2013-19416 appearing on pages 48890 through 48893 in the issue of Monday, August 12, 2013, beginning on page 48892, BSEE form BSEE-0130 is corrected to appear as photographed below.

BILLING CODE 1501-05-D

[FR Doc. C1-2013-19416 Filed 8-15-13; 8:45 am]

BILLING CODE 1501-05-C